DEPARTMENT OF HOMELAND SECURITY

Coast Guard

33 CFR Part 181

[Docket No. USCG-2007-29236]

Hull Identification Numbers for Recreational Vessels

AGENCY: Coast Guard, DHS.

ACTION: Follow-up to request for comments.

SUMMARY: The Coast Guard announces its decision to not initiate a rulemaking addressing an expanded hull identification number (HIN). The Coast Guard's decision-making process included consideration of comments submitted in response to its request for comments on the costs and benefits of expanding the existing 12-character HIN in order to provide additional information identifying vessels.

ADDRESSES: The docket for this action is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting “USCG-2007-29236” in the “Keyword” box, and then clicking “Search.”

FOR FURTHER INFORMATION CONTACT: If you have questions about this notice, call or e-mail Mr. Jeffrey Ludwig, Coast Guard; telephone 202-372-1061, e-mail Jeffrey.A.Ludwig@uscg.mil. If you have questions on viewing material in the docket, call Ms. Renee V. Wright, Program Manager, Docket Operations, telephone 202-366-9826.

SUPPLEMENTARY INFORMATION: On March 17, 2008, we published a request for public comments on the costs and benefits of expanding the existing 12-character HIN in order to provide additional information identifying vessels (73 FR 14193). The notice specifically requested comments on: (1) The expected benefits and costs of an expanded HIN; (2) the manner in which the Coast Guard should exempt small entities and builders of high-volume, low-cost vessels; (3) the estimated collection of information burdens to vessel manufacturers if the current 12-character HIN regulations were revised to require additional characters; and (4) possible alternatives to an expanded HIN. The Coast Guard also sought specific data to support its decision-making process about whether to initiate a rulemaking addressing an expanded HIN.

In response to the request for comments, we received 29 comments. The Coast Guard has decided not to initiate a rulemaking addressing an expanded HIN based on consideration of the comments received as well as the challenges from data uncertainty in describing, estimating, and quantifying potential costs and benefits of such a rulemaking.

Background

The Coast Guard has been looking into the possibility of an expanded HIN for several years. In 1994, the Coast Guard initiated a rulemaking to create an expanded HIN, but ultimately withdrew the rulemaking, stating: “There is no consensus on format for an expanded HIN and the Coast Guard lacks sufficient data to demonstrate that the benefits clearly outweigh the costs and burdens” 65 FR 40069 (June 29, 2000, Supplemental notice of proposed rulemaking; termination); see also 59 FR 23651 (May 6, 1994, Notice of proposed rulemaking); 59 FR 55823 (November 9, 1994, Notice of workshop and reopening of comment period); 62 FR 7971 (February 21, 1997, Supplemental notice of proposed rulemaking); 63 FR 63638 (November 16, 1998, Request for comments).

The Coast Guard again looked into the possibility of an expanded HIN with publication of the 2008 request for comments.

Discussion of Comments

The comments received covered a range of support and opposition to the Coast Guard's proposal for an expanded HIN. Several commenters addressed the Coast Guard's request for specific comments and data, although there was no consensus among commenters and the data and information provided was in an aggregate form with estimates which varied widely. For example, one commenter stated that certain recreational vessel manufacturers already use an expanded HIN format for their products (which include recreational vehicles as well as vessels), while several other commenters indicated by the substance of their comments that many recreational vessel manufacturers do not. Additionally, some commenters stated that the costs of an expanded HIN would be minimal and described why, while other commenters provided cost estimates to show that costs would be excessive. The Coast Guard found these comments helpful in showing a variety of opinions and possible data regarding the proposal to expand the HIN. These comments, however, also indicate that currently there are no definitive means to address this issue.

Although some commenters provided certain requested data, the request for comments did not garner any quantitative data or specific information regarding the benefits of an expanded HIN. Some commenters specifically agreed with the Coast Guard's discussion of possible benefits from an expanded HIN, such as enhanced assistance in the recovery of stolen vessels, reduced recreational vessel fraud, improved accuracy of accident data analysis, and increased remote identification of a “suspect” vessel. None of the commenters provided any benefit-specific data or information to support the commenters' expressed views. Challenges to an expanded HIN proposal and its potential benefits were also general statements—opposing the proposal or disagreeing with the Coast Guard's discussion of the proposal—and did not contain sufficiently specific data or information.

In addition to seeking information from the public on an expanded HIN proposal, the Coast Guard also performed its own evaluation of the potential costs and benefits of such a proposal. The Coast Guard found a lack of available data regarding potential costs and benefits.

Conclusion

At this time, the Coast Guard has decided that it is in the best interest of the public and the boating safety community to focus its attention and devote its resources to other regulatory actions. If the Coast Guard decides in the future to reconsider an expanded HIN, we will provide notice in a new Federal Register publication.

Dated: February 2, 2011.
K.S. Cook,
Rear Admiral, U.S. Coast Guard Director of Prevention Policy.

[FR Doc. 2011-3037 Filed 2-10-11; 8:45 am]

BILLING CODE 9110-04-P